DEPARTMENT OF LABOR

Employment and Training Administration

Comment Request for Information Collection for the Labor Exchange Reporting System (LERS), OMB Control No. 1205-0240, Extension With Minor Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood, and the impact of collection requirements on respondents can be properly assessed.

Currently, ETA is soliciting comments concerning the collection of data about LERS, which facilitates reporting for the Wagner-Peyser Act through the ETA 9002 reports and for Veterans' Employment and Training Service (VETS) through the VETS 200 reports. The current expiration date is August 31, 2015.

DATES: Submit written comments to the office listed in the addresses section below on or before August 10, 2015.

ADDRESSES: Send written comments to Karen Staha, Office of Policy Development and Research, Room N-5641, Employment and Training Administration, U.S. Department of Labor, 200 Constitution Avenue NW., Washington, DC 20210. Telephone number: 202-693-3700 (this is not a toll-free number). Fax: 202-693-2766. Email: ETAPerforms@dol.gov. To obtain a copy of the proposed information collection request (ICR), please contact the person listed above.

FOR FURTHER INFORMATION CONTACT: Luke Murren at 202-693-3733 or murren.luke@dol.gov.

SUPPLEMENTARY INFORMATION:

I. Background

Each quarter, States and territories submit data on individuals and employers who receive core employment and workforce information services through the public labor exchange and VETS funded labor exchange of the States' one-stop delivery systems. These data are used by ETA and VETS to evaluate performance and delivery of labor exchange services within the one-stop delivery system.

ETA and VETS use the data to track total participants, their characteristics, services provided, and outcomes for job seekers. Additionally, ETA and VETS analyze the data to verify the delivery of core labor exchange services within the Workforce Investment Act of 1998 (WIA) framework; to study performance outcomes vis-à-vis performance measures, and State policies and procedures; and to help drive the workforce investment system toward continuous improvement of outcomes and integrated service delivery. Within ETA, the data are used by the Office of Workforce Investment, the Office of Unemployment Insurance, the Office of Financial Administration, the Office of Policy Development and Research, and the Office of Regional Management (including the regional offices). Other Departmental users include the Office of the Assistant Secretary for Employment and Training and the Office of the Assistant Secretary for Policy.

The reports and other analyses of the data are made available to the States, members of Congress, veterans' organizations, research firms, and others needing information on public employment and workforce information services. Data on Wagner-Peyser Act funded public labor exchange is included in the WIA annual report to Congress. VETS funded labor exchange services are provided to Congress to meet VETS reporting requirements codified in Title 38 of the United States Code.

Currently, LERS is the only mechanism for collecting performance information on Wagner-Peyser Act funded and Jobs for Veterans' state grants. As such, this set of reports is necessary for tracking and reporting to stakeholders data on the usage and performance of these programs. More specifically, these reports are used to monitor the core purpose of the program—mainly, tracking how many people found jobs; did people stay employed; and what were their earnings.

Information is collected on the ETA 9002 and VETS 200 reports under the following authority:

• Wagner-Peyser Act sec. 3(a), 29 U.S.C. 49b(a)

• Wagner-Peyser Act sec. 3(c), 29 U.S.C. 49b(c)

• Wagner-Peyser Act sec. 7(b), 29 U.S.C. 49f(b)

• Wagner-Peyser Act sec. 10(c), 29 U.S.C. 49i(c)

• Wagner-Peyser Act sec. 13(a), 29 U.S.C. 49l(a)

• Wagner-Peyser Act sec. 15(e)(2)(I), 29 U.S.C. 49l-2(e)(2)(I)

• Provisional Guidance on the Implementation of the 1997 Standards for Federal Data on Race and Ethnicity, Executive Office of the President, Office of Management and Budget (66 FR 3829-3831); and “Revisions to the Standards for Maintaining, Collecting, and Presenting Federal Data on Race and Ethnicity, (62 FR 58781-58790).

• Priority of Service for veterans in Department of Labor job training programs sec. 38 U.S.C. 4215(a)(2).

In 2012, ETA modified the reporting system to collect several additional statutorily required pieces of information. The first of which pertains to the priority of service provisions contained in the Jobs for Veterans Act (Pub. L.107-288). These provisions provide that veterans and spouses of veterans (together comprising the category of covered persons) are entitled to priority over non-covered persons for the receipt of employment, training, and placement services provided under new or existing qualified job training programs. Qualified job training programs are defined at 38 U.S.C. 4215(a)(2) as any workforce preparation, development or delivery program or service that is directly funded, in whole or in part, by the Department.

Additional items are required under Pub. L. 112-56, Title II, Vow to Hire Heroes, Sections 238 and 239, and pertain to: (1) Performance measures on job counseling, training and placement programs of the Department, and; (2) clarifications of priority of service for veterans in the Department's job training programs.

These requirements impacted both the ETA 9002 and VETS 200 reports. Lastly, the expansive focus on veteran reemployment initiatives has necessitated collection of additional information on groups of veterans (such as Post 9/11 era veterans), targeted services they received, and additional aspects of their outcomes in order to monitor and oversee their effectiveness.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension with minor revisions.

Title: Labor Exchange Reporting System (LERS).

OMB Number: 1205-0240.

Affected Public: State, local, and tribal government entities and private non-profit organizations.

Form(s): ETA-9002, VETS-200, Employment and Training (ET) Handbook No. 406, Employment Service Record Layout.

Total Annual Respondents: 54.

Annual Frequency: Quarterly.

Total Annual Responses: 1,944.

Average Time per Response: 237 hours.

Estimated Total Annual Burden Hours: 461,050.

Total Annual Burden Cost for Respondents: $0.

We will summarize and/or include in the request for OMB approval of the ICR, the comments received in response to this comment request; they will also become a matter of public record.

Portia Wu,
Assistant Secretary for Employment and Training, Labor.

[FR Doc. 2015-14300 Filed 6-10-15; 8:45 am]

BILLING CODE 4510-FN-P